INTERNATIONAL TRADE COMMISSION

[Investigation Nos. 701-TA-309-A-B and 731-TA-696 (Second Review)]

Pure and Alloy Magnesium From Canada and Pure Magnesium From China

Determinations

On the basis of the record ¹ developed in the subject five-year reviews, the United States International Trade Commission (Commission) determines, pursuant to section 751(c) of the Tariff Act of 1930 (19 U.S.C. 1675(c)) (the Act), that revocation of the countervailing duty orders on pure and alloy magnesium from Canada would not be likely to lead to continuation or recurrence of material injury to an industry in the United States within a reasonably foreseeable time.

¹ The record is defined in sec. 207.2(f) of the Commission's Rules of Practice and Procedure (19 CFR 207.2(f)).

With respect to China, revocation of the antidumping duty order on pure magnesium would be likely to lead to continuation or recurrence of material injury to an industry in the Untied States within a reasonably foreseeable time.

Background

With respect to Canada, the Commission instituted the reviews on July 1, 2005 (70 FR 38199) and determined on October 4, 2005 that it would conduct full reviews (70 FR 60108, October 14, 2005). With respect to China, the Commission instituted the review on September 1, 2005 (70 FR 52122) and determined on December 5, 2005 that it would conduct a full review (70 FR 75483, December 20, 2005). Notice of the scheduling of the Commission's reviews and of a public hearing to be held in connection therewith was given by posting copies of the notice in the Office of the Secretary, U.S. International Trade Commission, Washington, DC, and by publishing the notice in the Federal Register on January 12, 2006 (71 FR 2065). The hearing was held in Washington, DC, on April 25, 2006, and all persons who requested the opportunity were permitted to appear in person or by counsel.

The Commission transmitted its determinations in these reviews to the Secretary of Commerce on June 26, 2006. The views of the Commission are contained in USITC Publication 3859 (June 2006), entitled Pure and Alloy Magnesium from Canada and Pure Magnesium from China: Investigation Nos. 701-TA-309-A-B and 731-TA-696 (Second Review).

Issued: June 21, 2006.
By order of the Commission.
Marilyn R. Abbott,
Secretary to the Commission.

[FR Doc. 06-5668 Filed 6-23-06; 8:45 am]

BILLING CODE 7020-02-M